DEPARTMENT OF VETERANS AFFAIRS

Notice of Meeting; National Research Advisory Council

The Department of Veterans Affairs (VA) gives notice under the Federal Advisory Committee Act (FACA) that the National Research Advisory Council will hold a meeting on Wednesday, December 6, 2017, at the Atlanta Veterans Affairs Medical Center, Conference Room 5a110 at 1670 Clairmont Rd., Decatur, Georgia 30033. The meeting will convene at 9:00 a.m. and end at 4:30 p.m. This meeting is open to the public.

The agenda will include scientific presentations on animal research, mental health, rehabilitation and a facility tour. Additional presentations will include: Balancing research challenges, an overview of the animal research program from the Chief Veterinary Medical Officer, a review of the Centers for Disease Control and Prevention partnership with the Atlanta Medical Center and positive impacts of research. The Chair will provide a synthesis of his cross-committee collaborative meeting attendance at the Geriatrics and Gerontology Advisory Committee and National Academic Affiliations Council FACA meetings. The annual report will be reviewed. No time will be allocated at this meeting for receiving oral presentations from the public. Members of the public wanting to attend may contact Melissa Cooper, Designated Federal Officer, Office of Research and Development (10P9), Department of Veterans Affairs, 810 Vermont Avenue NW., Washington, DC 20420, at (202) 461-6044, or by email at Melissa.Cooper@va.gov no later than close of business on November 29, 2017. Because the meeting is being held in a government building, a photo I.D. must be presented at the protocols, and in order to prevent delays in clearance processing, you should allow an additional 30 minutes before the meeting begins. Any member of the public seeking additional information should contact Melissa Cooper at the phone number or email address noted above.

Dated: October 24, 2017.
LaTonya L. Small,
Federal Advisory Committee Management Officer.

[FR Doc. 2017-23407 Filed 10-26-17; 8:45 am]

BILLING CODE P